DEPARTMENT OF TRANSPORTATION

Federal Aviation Administration

14 CFR Part 39

[Docket No. FAA-2013-0661; Directorate Identifier 2013-CE-009-AD]

RIN 2120-AA64

Airworthiness Directives; Schempp-Hirth Flugzeugbau GmbH Gliders

AGENCY: Federal Aviation Administration (FAA), Department of Transportation (DOT).

ACTION: Notice of proposed rulemaking (NPRM).

SUMMARY: We propose to adopt a new airworthiness directive (AD) for Schempp-Hirth Flugzeugbau GmbH Model Duo Discus T gliders. This proposed AD results from mandatory continuing airworthiness information (MCAI) originated by an aviation authority of another country to identify and correct an unsafe condition on an aviation product. The MCAI describes the unsafe condition as the instructions provided to inspect the propeller hub and blades are insufficient for detecting cracks and/or other damage, and other operating instructions provided by the flight and maintenance manual are incorrect and insufficient. We are issuing this proposed AD to require actions to address the unsafe condition on these products.

DATES: We must receive comments on this proposed AD by September 12, 2013.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this proposed AD, contact Schempp-Hirth Flugzeugbau GmbH, Krebenstrasse 25, 73230 Kirchheim/Teck, Germany; telephone: +49 7021 7298-0; fax: +49 7021 7298-199; email: info@schempp-hirth.com; Internet: http://www.schempp-hirth.com. You may review copies of the referenced service information at the FAA, Small Airplane Directorate, 901 Locust, Kansas City, Missouri 64106. For information on the availability of this material at the FAA, call (816) 329-4148.

Examining the AD Docket

You may examine the AD docket on the Internet at http://www.regulations.gov; or in person at the Docket Management Facility between 9 a.m. and 5 p.m., Monday through Friday, except Federal holidays. The AD docket contains this proposed AD, the MCAI, the regulatory evaluation, any comments received, and other information. The street address for the Docket Office (telephone (800) 647-5527) is in the ADDRESSES section. Comments will be available in the AD docket shortly after receipt.

FOR FURTHER INFORMATION CONTACT: Jim Rutherford, Aerospace Engineer, FAA, Small Airplane Directorate, 901 Locust, Room 301, Kansas City, Missouri 64106; telephone: (816) 329-4165; fax: (816) 329-4090; email: jim.rutherford@faa.gov.

SUPPLEMENTARY INFORMATION:

Comments Invited

We invite you to send any written relevant data, views, or arguments about this proposed AD. Send your comments to an address listed under the ADDRESSES section. Include “Docket No. FAA-2013-0661; Directorate Identifier 2013-CE-009-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

The European Aviation Safety Agency (EASA), which is the Technical Agent for the Member States of the European Community, has issued AD No.: 2013-0054, dated March 5, 2013 (referred to after this as “the MCAI”), to correct an unsafe condition for the specified products. The MCAI states:

It was found that the accomplishment instructions provided to check the powered sailplane's propeller hub and blades were not sufficient to detect cracks and/or other damage. The results of a subsequent manual review revealed that some other operating instructions provided by the sailplane flight and maintenance manual were neither correct nor sufficient.

This condition, if not corrected, could lead to operation of the powered sailplane outside its certified limits.

To address this unsafe condition, EASA issued AD 2013-0012 to require amendment of sailplane flight- and maintenance manuals to correct the operating instruction deficiencies and inaccuracies and, for Arcus T sailplanes that had been repaired before the applicable maintenance manual update, an elevator or wing flap hinge moment weight check, as applicable.

Since that AD was published, Schempp-Hirth Flugzeugbau GmbH determined that Action 3 of the accomplishment instructions of Technical Note (Technische Mitteilung) (TN) 890-13, referenced for Duo Discus T sailplanes, was incorrect for S/N 1 through 174. To correct this erroneous maintenance instruction, Schempp-Hirth Flugzeugbau GmbH issued TN 890-13 issue 2.

For the reasons described above, this AD retains the requirements of EASA AD 2013-0012, which is superseded, and requires, for certain Duo Discus T powered sailplanes, the use of instructions as provided in TN 890-13 issue 2.

The MCAI requires exchange of flight manual pages (which introduces a repetitive inspection of the power plant), exchange of maintenance manual pages, exchange of cockpit placards, and transfer of weight and balance data. EASA AD No.: 2013-0054 supersedes EASA AD No. 2013-0012, dated January 15, 2013. No FAA action was taken on EASA AD No. 2013-0012. You may obtain further information by examining the MCAI in the AD docket.

Relevant Service Information

Schempp-Hirth Flugzeugbau GmbH has issued Technical Note No. 890-13, 2nd issue, dated March 5, 2013, for all the affected serial numbers; Duo Discus T Flight Manual TN 890-13, Revision 12, dated November 2011, for serial numbers (S/N) 1 through 174; and Duo Discus T Flight Manual TN 890-13, Revision 2, dated November 2011, for S/N 175 through 240. The actions described in this service information are intended to correct the unsafe condition identified in the MCAI.

FAA's Determination and Requirements of the Proposed AD

This product has been approved by the aviation authority of another country, and is approved for operation in the United States. Pursuant to our bilateral agreement with this State of Design Authority, they have notified us of the unsafe condition described in the MCAI and service information referenced above. We are proposing this AD because we evaluated all information and determined the unsafe condition exists and is likely to exist or develop on other products of the same type design.

Costs of Compliance

We estimate that this proposed AD will affect 5 products of U.S. registry. We also estimate that it would take about 2.5 work-hours per product to comply with the basic requirements of this proposed AD. The average labor rate is $85 per work-hour. Required parts would cost about $50 per product.

Based on these figures, we estimate the cost of the proposed AD on U.S. operators to be $1,312.50, or $262.50 per product.

In addition, we estimate that any necessary follow-on actions (replace any parts found with cracks and repair any damage) would take about 5 work-hours and require parts costing $3,840, for a cost of $4,265 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Schempp-Hirth Flugzeugbau GmbH: Docket No. FAA-2013-0661; Directorate Identifier 2013-CE-009-AD.

(a) Comments Due Date

We must receive comments by September 12, 2013.

(b) Affected ADs

None.

(c) Applicability

This AD applies to Schempp-Hirth Flugzeugbau GmbH Model Duo Discus T gliders, serial numbers (S/N) 1 through 240, certificated in any category.

(d) Subject

Air Transport Association of America (ATA) Code 5: Time Limits.

(e) Reason

This AD was prompted by mandatory continuing airworthiness information (MCAI) originated by an aviation authority of another country to identify and correct an unsafe condition on an aviation product. The MCAI describes the unsafe condition as the instructions provided to inspect the propeller hub and blades are insufficient for detecting cracks and/or other damage, and other operating instructions provided by the flight and maintenance manual are incorrect and insufficient. We are issuing this AD to ensure that the instructions for inspecting the propeller hub and blades are sufficient to detect cracks and/or other damage and instructions of the flight and maintenance manual are correct and sufficient.

(f) Actions and Compliance

Unless already done, do the following actions as specified in paragraphs (f)(1) through (f)(4) of this AD:

(1) Within 30 days after the effective date of this AD, incorporate amended pages into the applicable FAA-approved sailplane flight manual (SFM), following Action 1 of Schempp-Hirth Flugzeugbau GmbH Technical Note No. 890-13, 2nd issue, dated March 5, 2013.

(2) Within 60 days after the effective date of this AD, do the following actions in paragraphs (f)(2)(i), (f)(2)(ii), and (f)(2)(iii) of this AD:

(i) Incorporate amended pages into the applicable FAA-approved SFM and sailplane maintenance manual (SMM), as applicable, following Action 2 and Action 3 of Schempp-Hirth Flugzeugbau GmbH Technical Note No. 890-13, 2nd issue, dated March 5, 2013.

(ii) Install the amended cockpit placards following Action 4 of Schempp-Hirth Flugzeugbau GmbH Technical Note No. 890-13, 2nd issue, dated March 5, 2013. Replace previous placard as necessary.

(iii) Transfer weight and balance data from weight and balance report into the weight and balance log sheet following Action 5 of Schempp-Hirth Flugzeugbau GmbH Technical Note No. 890-13, 2nd issue, dated March 5, 2013.

(3) The actions required by paragraph (f)(1) of this AD may be performed by the owner/operator (pilot) holding at least a private pilot certificate and must be entered into the aircraft records showing compliance with this AD following 14 CFR § 43.9 (a)(1)-(4) and 14 CFR § 91.417(a)(2)(v). The record must be maintained as required by 14 CFR § 91.417, 121.380, or 135.439.

(4) Initially within 30 days after the effective date of this AD and repetitively thereafter at intervals not to exceed 12 calendar months, visually inspect (pre-flight) the power plant (propeller hub and propeller blades) for cracks or other damage following:

(i) S/N 1 through 174: the Visual inspection of the power plant section, page 4.3.3, step (4) c), of Schempp-Hirth Flugzeugbau GmbH Duo Discus T Flight Manual TN 890-13, Revision 12, dated November 2011; or

(ii) S/N 175 through 240: the Visual inspection of the power plant section, page 4.3.3, step (4) c), of Schempp-Hirth Flugzeugbau GmbH Duo Discus T Flight Manual TN 890-13, Revision 2, dated November 2011.

(5) If any cracks or other damage is found during any inspection required by paragraph (f)(4) of this AD, before further flight, replace any parts found with cracks and repair any damage.

Note 1 to paragraph (f) of this AD: This AD and the MCAI incorporate SFM revisions that call out daily pilot inspections of the power plant (propeller hub and propeller blades). The FAA is also requiring in this AD initial and annual repetitive inspections by a properly certificated aircraft mechanic.

(g) Other FAA AD Provisions

The following provisions also apply to this AD:

(1) Alternative Methods of Compliance (AMOCs): The Manager, Standards Office, FAA, has the authority to approve AMOCs for this AD, if requested using the procedures found in 14 CFR 39.19. Send information to ATTN: Jim Rutherford, Aerospace Engineer, FAA, Small Airplane Directorate, 901 Locust, Room 301, Kansas City, Missouri 64106; telephone: (816) 329-4165; fax: (816) 329-4090; email: jim.rutherford@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(h) Related Information

Refer to MCAI European Aviation Safety Agency (EASA) AD No.: 2013-0054, dated March 5, 2013 which can be found in the AD docket on the Internet at http://www.regulations.gov; and Schempp-Hirth Flugzeugbau GmbH Duo Discus T Maintenance Manual TN 890-13, Revision 16, dated November 2011, for S/N 1 through 174; and Schempp-Hirth Flugzeugbau GmbH Duo Discus T Maintenance Manual TN 890-13, Revision 3, dated November 2011, for S/N 175 through 240, which can be obtained from the manufacturer specified in the next sentence. For service information related to this AD, contact Schempp-Hirth Flugzeugbau GmbH, Krebenstrasse 25, 73230 Kirchheim/Teck, Germany; telephone: +49 7021 7298-0; fax: +49 7021 7298-199; email: info@schempp-hirth.com; Internet: http://www.schempp-hirth.com. You may review copies of the referenced service information at the FAA, Small Airplane Directorate, 901 Locust, Kansas City, Missouri 64106. For information on the availability of this material at the FAA, call (816) 329-4148.

Issued in Kansas City, Missouri, on July 23, 2013.
Earl Lawrence,
Manager, Small Airplane Directorate, Aircraft Certification Service.

[FR Doc. 2013-18092 Filed 7-26-13; 8:45 am]

BILLING CODE 4910-13-P